DEPARTMENT OF THE TREASURY

Internal Revenue Service

26 CFR Part 1

[TD 9441]

RIN 1545-BI46

Section 482: Methods To Determine Taxable Income in Connection With a Cost Sharing Arrangement; Correction

AGENCY: Internal Revenue Service (IRS), Treasury.

ACTION: Correcting amendment.

SUMMARY: This document contains a correction to a correcting amendment for final and temporary regulations (TD 9441) that were published in the Federal Register on Thursday, March 5, 2009 (74 FR 9570) providing further guidance and clarification regarding methods under section 482 to determine taxable income in connection with a cost sharing arrangement in order to address issues that have arisen in administering the current regulations. The temporary regulations affect domestic and foreign entities that enter into cost sharing arrangements described in the temporary regulations.

DATES: This correction is effective March 19, 2009, and is applicable on January 5, 2009.

FOR FURTHER INFORMATION CONTACT: Kenneth P. Christman, (202) 435-5265 (not a toll-free number).

SUPPLEMENTARY INFORMATION:

Background

The final and temporary regulations that are the subject of this document are under sections 367 and 482 of the Internal Revenue Code.

Need for Correction

As published, final and temporary regulations (TD 9441) contains an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

Par. 2. Section 1.482-0T is amended by removing and reserving the entry of § 1.482-7T(h)(3)(vi)(B) and revising the entry of § 1.482-7T(i)(6)(vi)(B) to read as follows:

§ 1.482-0T Outline of regulations under section 482 (temporary).

* * * * *

§ 1.482-7T Methods to determine taxable income in connection with a cost sharing arrangement (temporary).

* * * * *

(i) * * *

(6) * * *

(vi) * * *

(B) Circumstances in which Periodic Trigger deemed not to occur.

* * * * *

LaNita Van Dyke,
Chief, Publications and Regulations Branch, Legal Processing Division, Associate Chief Counsel (Procedure and Administration).

[FR Doc. E9-5950 Filed 3-18-09; 8:45 am]

BILLING CODE 4830-01-P